DEPARTMENT OF JUSTICE

Antitrust Division

Notice Pursuant to the National Cooperative Research and Production Act of 1993—Southwest Research Institute (“SwRI”): Advanced Reciprocating Engine Systems (“ARES”)

In Notice document 00-3961 appearing on page 8445 in the issue of Friday, February 18, 2000, make the following corrections:

In the second column, heading of Notice, fifth line, “Reciprocal” should read “Reciprocating”; in the third column, first paragraph, second line, “Reciprocal” should read “Reciprocating”; in the third column, second paragraph, seventh line, “Reciprocal” should read “Reciprocating”; in the third column, third paragraph, third line, “Reciprocal” should read “Reciprocating”.

Constance K. Robinson,
Director of Operations, Antitrust Division.

[FR Doc. 00-17403 Filed 7-10-00; 8:45 am]

BILLING CODE 4410-11-M